DEPARTMENT OF ENERGY

Federal Energy Regulatory Commission

[Docket No. RM01-10-007]

Standards of Conduct for Transmission Providers; Notice of Panel Topics; Standards of Conduct Technical Conference and Workshop

March 10, 2006.

As announced on February 28 and March 3, 2006, the Federal Energy Regulatory Commission (Commission) will hold a technical conference and workshop on Standards of Conduct for Transmission Providers on April 7, 2006, at the Scottsdale Plaza in Scottsdale, Arizona. The meeting will begin at 9 a.m. (MST) and conclude at approximately 4 p.m. All interested persons are invited to attend. Prospective attendees and participants are urged to watch for a further notice that will include the selected panelists who will speak at the conference. The draft agenda of topics is shown below.

The purpose of the conference and workshop is to discuss Standards of Conduct for Transmission Providers under Order No. 2004.¹ It will be held at the Scottsdale Plaza Resort located at 7200 North Scottsdale Road, Scottsdale, Arizona. Hotel rooms can be reserved by calling 1-800-306-0059 or by visiting its Web site at http://www.scottsdaleplaza.com.

¹ Standards of Conduct for Transmission Providers, Order No. 2004, FERC Stats. & Regs., Regulations Preambles ¶ 31,155 (2003), order on reh'g, Order No. 2004-A, III FERC Stats. & Regs. ¶ 31,161 (2004), 107 FERC ¶ 61,032 (2004), order on reh'g, Order No. 2004-B, III FERC Stats. & Regs. ¶ 31,166 (2004), 108 FERC ¶ 61,118 (2004), order on reh'g, Order No. 2004-C, 109 FERC ¶ 61,325 (2004), order on reh'g, Order No. 2004-D, 110 FERC ¶ 61,320 (2005), National Fuel Gas Supply Corp., et al. v. FERC, Nos. 04-1188, et al. (DC Cir. Filed June 9, 2004).

Agenda for April 7, 2006 Standards of Conduct Conference

9-9:45: Introductory Remarks.

9:45-10:45: Industry Panel on Independent Functioning Requirements.

• Creditworthiness and risk management functions.

• Application of Standards of Conduct to employees of holding company, service company, parent company or other non-transmission provider affiliates providing services to the Transmission Provider.

10:45-11: Break.

11-12: Panel on Integrated Resource Planning

• Discussion of how companies currently engage in Integrated Resource Planning.

• Discussion of concerns or problems that the industry is encountering in implementing the Standards of Conduct while performing Integrated Resource Planning.

12-1:30: Lunch Break.

1:30-2:30: Industry Panel on Information Sharing Prohibitions—Do's and Don'ts.

• Permissible communications with affiliated Transmission Providers.

• Communications in nomination/scheduling/confirmation process.

• Transaction specific communications with affiliated shippers.

• Communications between Transmission Providers and Marketing or Energy Affiliates during litigation proceedings/settlement negotiations or other docketed Commission proceedings.

2:30-2:45: Break.

2:45-3:45: Staff Panel Responding to Written Questions.

Staff responding to written questions or inquiries that have been submitted before and during conference.

3:45-4: Concluding Remarks.

As included in earlier notices, there is no registration fee to attend this conference. However, we request that those planning to attend the conference register online on the Commission's Web site at http://www.ferc.gov/whats-new/registration/comp-05-06-form.asp

A free audio Web cast of this event is available through http://www.ferc.gov. Anyone with Internet access who desires to listen to this event can do so by navigating to http://www.ferc.gov's Calendar of Events and locating this event in the Calendar. The event will contain a link to its Web case. The Capitol Connection provides technical support for the Web casts and offers access to the meeting via phone bridge for a fee. If you have any questions, visit http://www.CaptiolConnection.org or contact Danelle Perkowski or David Reininger at 703-993-3100.

Transcripts of the meeting will be immediately available for a fee from Ace Reporting Company (202-347-3700 or 1-800-336-6646). They will be available for free on the Commission's eLibrary system and on the events calendar about two weeks after the conference.

Questions about the conference and workshop, including requests to participate, should be directed to: Demetra Anas, Office of Market Oversight and Investigations, Federal Energy Regulatory Commission, 888 First Street, NE., Washington, DC 20426. 202-502-8178. Demetra.Anas@ferc.gov.

Magalie R. Salas,
Secretary.

[FR Doc. E6-3882 Filed 3-16-06; 8:45 am]

BILLING CODE 6717-01-P